ENVIRONMENTAL PROTECTION AGENCY

[EPA-HQ-OPP-2012-0844; FRL-9386-4]

Notice of Receipt of a Request to Voluntarily Cancel Certain Pesticide Registrations

AGENCY: Environmental Protection Agency (EPA).

ACTION: Notice.

SUMMARY: In accordance with the Federal Insecticide, Fungicide, and Rodenticide Act (FIFRA), EPA is issuing a notice of receipt of request by registrants to voluntarily cancel certain pesticide registrations. EPA intends to grant these requests at the close of the comment period for this announcement unless the Agency receives substantive comments within the comment period that would merit its further review of the requests, or unless the registrants withdraw their requests. The cancellation for the allethrins manufacturing use products will be effective September 30, 2015, and the cancellation for the allethrins end-use products will be effective December 31, 2016, as described in Unit II. If these requests are granted, any sale, distribution, or use of products listed in this notice will be permitted after the registration has been cancelled only if such sale, distribution, or use is consistent with the terms as described in the final order.

DATES: Comments must be received on or before June 28, 2013.

ADDRESSES: Submit your comments, identified by docket identification (ID) number EPA-HQ-OPP-2012-0844 by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

Submit written withdrawal request by mail to: Pesticide Re-Evaluation Division (7508P), Office of Pesticide Programs, Environmental Protection Agency, 1200 Pennsylvania Ave. NW., Washington, DC 20460-0001. Attn: Molly Clayton.

• Hand Delivery: To make special arrangements for hand delivery or delivery of boxed information, please follow the instructions at http://www.epa.gov/dockets/contacts.htm.

Additional instructions on commenting or visiting the docket, along with more information about dockets generally, is available at http://www.epa.gov/dockets.

FOR FURTHER INFORMATION CONTACT: Molly Clayton, Pesticide Re-Evaluation Division (7508P), Office of Pesticide Programs, Environmental Protection Agency, 1200 Pennsylvania Ave. NW., Washington, DC 20460-0001; telephone number: (703) 603-0522; email address: clayton.molly@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. What action is the Agency taking?

This notice announces receipt by the Agency of a request from multiple registrants to cancel certain manufacturing use and end use pesticide products registered under FIFRA section 3 or 24(c). These registrations are listed in sequence by registration number in Tables 1 and 2 of this unit.

The allethrin series of pyrethroid insecticides includes bioallethrin (PC code 004003), esbiol (004004), esbiothrin (004007, formerly 004003/004004), and pynamin forte (004005). On March 31, 2010, the public phase of registration review for the allethrins began with the opening of the initial docket (EPA-HQ-OPP-2010-0022). The comment period for the allethrins registration review docket was open for 60 days, from March 31, 2010, to June 1, 2010. The Final Work Plan (FWP) for the allethrins was completed on August 11, 2010. The Agency's projected registration review timeline described in the FWP established that the preliminary risk assessments would be completed by December 2018, and the final registration decision would be completed in 2020.

The technical registrants (Sumitomo Chemical Company Limited and Valent BioSciences Corporation) subsequently requested cancellation of their allethrins technical products effective September 30, 2015, and cancellation of their end use products effective December 31, 2016. Further, they requested that use of their technical products to formulate end-use products not be permitted after December 31, 2015.

This request was published for a 30-day comment period in the Federal Register issue of December 19, 2012 (77 FR 75157) (FRL-9369-4). In the December 19, 2012 notice, EPA indicated that it would issue an order implementing the cancellations unless the Agency received substantive comments within the 30-day comment period that would merit its further review of the requests, or unless the registrants withdrew their request. The Agency received one set of comments on the notice, and the comments did not merit EPA's further review of the request. Further, the registrants did not withdraw their request. A Final Cancellation Order was published in the Federal Register issue of April 24, 2013 (78 FR 24195) (FRL-9383-5).

Because the allethrins technical products have been cancelled, several registrants for allethrins end use products, and a registrant for several manufacturing use products, have also requested cancellation for their products with dates consistent with those specified for the technical products.

Table 1—Manufacturing Use Product Registrations With Pending Requests for Cancellation
Registration No. | Product name
1021-1060 | D-Trans Allethrin 90% Concentrate.
1021-1128 | D-Trans Intermediate 1868.
1021-1550 | Evercide Intermediate 2416.
1021-1575 | Evercide Intermediate 2941.

Table 2—End Use Product Registrations With Pending Requests for Cancellation
Registration No. | Product name
1021-1607 | Evercide Residual Pressurized Spray 2581.
1021-1594 | Evercide Residual Pressurized Spray 2523.
5178-5 | Kilmos PF Mosquito Repellent Coils.
5178-10 | Kilmos PF Mosquito Repellent Sticks.
8848-72 | Black Jack DS205 Insect Killer.
9688-230 | Chemsico Aerosol Insecticide LD.
9688-233 | Chemsico Wasp & Hornet Killer DL.
9688-255 | Chemsico Wasp # Hornet Killer DS.
43917-1 | Spira Air-O-Mat.
43917-7 | Spira Area Mosquito Repellent.
43917-8 | Spira Punks Mosquito Coils II.
45385-9 | Chem-Tox Insect Spray.
46515-48 | House & Garden Bug Killer 4.
63376-1 | Family Mosquito Coils.
63376-2 | Family Mosquito Repellent Coils.
63376-5 | Family Mosquito Repellent Sticks.
82539-2 | Ultimate Bug Candle.
83467-1 | Buzz Buster Mosquito Repellant Coils.
10807-436 | Konk Insect Killer.
13283-20 | Rainbow Point Three Wasp & Ant Spray.
13283-22 | Rainbow Flying and Crawling Bug Killer.
13283-24 | Rainbow Flying & Crawling Bug Killer IV.
13283-29 | Multi-Bug II.
13283-36 | Rainbow Liquid Wasp & Ant Spray.
22950-14 | Cobra PF Mosquito Repellent Coils.

Table 3 of this unit includes the company number and name of record for all registrants of the products in Tables 1 and 2 of this unit, in sequence by EPA company number. This number corresponds to the first part of the EPA registration numbers of the products listed in this unit.

Table 3—Registrants Requesting Voluntary Cancellation
EPA company No. | EPA company name
1021 | McLaughlin Gormley King Co.
5178 | Blood Protection Company (China), Ltd.
8848 | Safeguard Chemical Corporation.
9688 | Chemsico.
10807 | Amrep, Inc.
43917 | Zobele Holdings, P.A.
45385 | CTX-Cenol, Inc.
46515 | Celex, Division of United Industries Corp.
63376 | Family Products SDN BHD.
82539 | Kerslig Candle Light.
83467 | Multinational Resources, Inc.
13283 | Rainbow Technology Corporation.
22950 | Coils International, Inc.

III. What is the Agency's authority for taking this action?

Section 6(f)(1) of FIFRA provides that a registrant of a pesticide product may at any time request that any of its pesticide registrations be canceled. FIFRA further provides that, before acting on the request, EPA must publish a notice of receipt of any such request in the Federal Register.

Section 6(f)(1)(B) of FIFRA requires that before acting on a request for voluntary cancellation, EPA must provide a 30-day public comment period on the request for voluntary cancellation or use termination. In addition, FIFRA section 6(f)(1)(C) provides for the possibility of a 180-day comment period where the voluntary cancellation involves a pesticide registered for at least one minor agricultural use. Because these allethrins products are not registered for any minor agricultural uses, this 180-day comment provision does not apply, and EPA is providing a 30-day comment period on the proposed voluntary cancellation of allethrins registrations.

IV. Procedures for Withdrawal of Request

Registrants who choose to withdraw a request for cancellation should submit such withdrawal in writing to the person listed under FOR FURTHER INFORMATION CONTACT. If the products have been subject to a previous cancellation action, the effective date of cancellation and all other provisions of any earlier cancellation action are controlling.

V. Provisions for Disposition of Existing Stocks

Existing stocks are those stocks of registered pesticide products that are currently in the United States and that were packaged, labeled, and released for shipment prior to the effective date of the cancellation action. Because these allethrins products are re-registered pesticides, there are no known risks of concern, and the cancellation date for the technical products will occur several years prior to the time of the planned registration review decision for the allethrins, the Agency expects to grant these requests unless the Agency receives substantive comments that warrant further review of the requests or the registrants withdraw their request. In 2013, EPA intends to issue an order in the Federal Register canceling all of the manufacturing use registrations as of September 30, 2015, and end use product registrations as of December 31, 2016. It is the Agency's current intention to include in that order the following terms and conditions applicable to existing stocks:

• No sale or distribution of allethrins manufacturing use products by any person, other than for purposes of disposal or export, will be permitted after September 30, 2015.

• No use of the manufacturing use products to formulate end-use products will be permitted after December 31, 2015.

• As of January 1, 2017, persons other than registrants will be allowed to sell, distribute, or use existing stocks of cancelled end use products until such stocks are exhausted. Use of existing stocks will be permitted only to the extent that the use is consistent with the terms of the previously-approved labeling accompanying the product used.

List of Subjects

Environmental protection, Pesticides and pests, Allethrins.

Dated: May 14, 2013.
Richard P. Keigwin, Jr.,
Director, Pesticide Re-evaluation Division, Office of Pesticide Programs.

[FR Doc. 2013-12706 Filed 5-28-13; 8:45 am]

BILLING CODE 6560-50-P